DEPARTMENT OF THE INTERIOR

Bureau of Reclamation

[RR01115000, 19XR0680A1, RX.R0336900.0019100]

Public Meeting of the Yakima River Basin Conservation Advisory Group

AGENCY: Bureau of Reclamation, Interior.

ACTION: Notice of public meeting.

SUMMARY: The Bureau of Reclamation (Reclamation) is publishing this notice to announce that a Federal Advisory Committee meeting of the Yakima River Basin Conservation Advisory Group (CAG) will take place.

DATES: The meeting will be held on Monday, February 25, 2019, from 9 a.m. to approximately 12 p.m. (PT).

ADDRESSES: The meeting will be held at the Bureau of Reclamation, Columbia-Cascades Area Office Conference Room, 1917 Marsh Road, Yakima, Washington 98901.

FOR FURTHER INFORMATION CONTACT: Gwendolyn Christensen, Bureau of Reclamation, telephone (509) 575-5848 x203; email at gchristensen@usbr.gov; facsimile (509) 454-5611.

SUPPLEMENTARY INFORMATION: This meeting is being held under the provisions of the Federal Advisory Committee Act (5 U.S.C. Appendix 2, as amended.

Purpose of the Meeting: The CAG is a Federal advisory committee that provides technical advice and counsel to the Secretary of the Interior and Washington State on the structure, implementation, and oversight of the Yakima River Basin Water Conservation Program, consistent with Title XII Public Law 103-434, October 31, 1994; Yakima River Basin Water Enhancement Project (YRBWEP) as amended by Public Law 105-62, October 13, 1997, and Public Law 106-372, October 27, 2000. Additionally, under Title XII the CAG is tasked to provide recommendations on rules, regulations, and administration to facilitate the voluntary sale and lease of water. The CAG provides oversight to the Yakima River Basin Conservation Plan and provides an annual review of the implementation of the Water Conservation Program, including the applicable water conservation guidelines of the Secretary used by participating entities in preparing their individual water conservation plan. The primary purpose of the meeting is to update CAG members of the status of ongoing and future projects being funded with YRBWEP funds.

Agenda: The CAG will meet to review completed water projects, consideration of projects proposed for the future, and projects currently under construction. The members will receive updates on: (1) Current basin hydrology and operations; (2) native fish issues; (3) Riverware modeling updates, and (4) Department of Ecology projects and funding.

Meeting Accessibility/Special Accommodations: The meeting is open to the public and seating is on a first-come basis. The meeting facility is physically accessible to people with disabilities. If you have special needs or require an accommodation to participate in this meeting, please direct your requests to Gwendolyn Christensen at (509) 573-8050, or via email at gchristensen@usbr.gov, by November 21, 2018, so appropriate arrangements can be made.

Public Disclosure of Comments: Time will be allowed at the meeting for any individual or organization wishing to make oral comments. To allow for full consideration of information by the CAG members, written comments must be provided to Ms. Gwendolyn Christensen, Bureau of Reclamation, Columbia-Cascades Area Office, 1917 Marsh Road, Yakima, Washington 98901; email at gchristensen@usbr.gov; or facsimile (509) 454-5611, at least five (5) business days prior to the meeting. Any written comments received will be provided to the CAG members.

Before including your address, phone number, email address, or other personal identifying information in your comment, you should be aware that your entire comment—including your personal identifying information—may be made publicly available at any time. While you can ask us in your comment to withhold your personal identifying information from public review, we cannot guarantee that we will be able to do so.

Dated: December 14, 2018.
Dawn Wiedmeier,
Area Manager, Columbia-Cascades Area Office.

[FR Doc. 2018-27664 Filed 12-20-18; 8:45 am]

BILLING CODE 4332-90-P